DEPARTMENT OF ENERGY

Basic Energy Sciences Advisory Committee

AGENCY: Department of Energy, Office of Science.

ACTION: Notice of open meeting.

SUMMARY: This notice announces a meeting of the Basic Energy Sciences Advisory Committee (BESAC). Federal Advisory Committee Act (Pub. L. 92-463, 86 Stat. 770) requires that public notice of these meetings be announced in the Federal Register.

DATES: Thursday, July 9, 2009, 8:30 a.m.-5:30 p.m., and Friday, July 10, 2009, 8:30 a.m. to 12 noon.

ADDRESSES: Bethesda North Marriott Hotel and Conference Center, 5701 Marinelli Road, North Bethesda, MD 20852.

FOR FURTHER INFORMATION CONTACT: Katie Perine; Office of Basic Energy Sciences; U. S. Department of Energy; Germantown Building, Independence Avenue, Washington, DC 20585; Telephone: (301) 903-6529.

SUPPLEMENTARY INFORMATION: Purpose of the Meeting: The purpose of this meeting is to provide advice and guidance with respect to the basic energy sciences research program.

Tentative Agenda: Agenda will include discussions of the following:

• News from Office of Science/DOE;

• News from the Office of Basic Energy Sciences;

• Report from the New Era Subcommittee's Photon Workshop;

• Energy Frontier Research Center Update;

• COV Report for Materials Science and Engineering Division;

• New BESAC Charge.

Public Participation: The meeting is open to the public. If you would like to file a written statement with the Committee, you may do so either before or after the meeting. If you would like to make oral statements regarding any of the items on the agenda, you should contact Katie Perine at 301-903-6594 (fax) or katie.perine@science.doe.gov (e-mail). Reasonable provision will be made to include the scheduled oral statements on the agenda. The Chairperson of the Committee will conduct the meeting to facilitate the orderly conduct of business. Public comment will follow the 10-minute rule. This notice is being published less than 15 days before the date of the meeting due to programmatic issues that had to be resolved.

Minutes: The minutes of this meeting will be available for public review and copying within 30 days at the Freedom of Information Public Reading Room; 1E-190, Forrestal Building; 1000 Independence Avenue, SW.; Washington, D.C. 20585; between 9 a.m. and 4 p.m., Monday through Friday, except holidays.

Issued in Washington, DC, on June 30, 2009.
Rachel M. Samuel,
Deputy Committee Management Officer.

[FR Doc. E9-15779 Filed 7-1-09; 8:45 am]

BILLING CODE 6450-01-P